DEPARTMENT OF JUSTICE

Antitrust Division

Notice Pursuant to the National Cooperative Research and Production Act of 1993—Portland Cement Association

Notice is hereby given that, on February 24, 2009, pursuant to Section 6(a) of the National Cooperative Research and Production Act of 1993, 15 U.S.C. 4301 et seq. (“the Act”), Portland Cement Association (“PCA”) has filed written notifications simultaneously with the Attorney General and the Federal Trade Commission disclosing changes in its membership. The notifications were filed for the purpose of extending the Act's provisions limiting the recovery of antitrust plaintiffs to actual damages under specified circumstances. Specifically, American Cement, LLC, Sumterville, FL, has been added as a party to this venture.

The following members have withdrawn as parties to this venture and become a subsidiary of Giant Cement Holding, Inc., Summerville, SC: Coastal Cement Corporation, Boston, MA; Dragon Products Company, Portland, ME.

Also, the following affiliate members have withdrawn as parties to this venture and become divisions of PCA: Great Lakes Cement Promotion Association, Lansing, MI; North Central Cement Council, Jordon, MN; Northeast Cement Shippers Association, Castleton, NY; Northwest Cement Producers Group, Gig Harbor, WA; Puget Sound Concrete Specifications Council, Des Moines, WA; Rocky Mountain Cement Council, Denver, CO; South Central Cement Promotion Association, Tulsa, OK; and Southeast Cement Association, Lawrenceville, GA.

In addition, the following parties have changed their names: St. Marys Cement Inc. (U.S.) to St. Marys Cement Inc. (U.S.)/VCNA, Detroit, MI.; St. Marys Cement Inc. (Canada), to St. Marys Cement Inc. (Canada)/VCNA, Toronto, Ontario, CANADA; Suwannee American Cement to Suwannee American Cement/VCNA, Jacksonville, FL.

No other changes have been made in either the membership or planned activity of the group research project. Membership in this group research project remains open, and PCA intends to file additional written notification disclosing all changes in membership.

On January 7, 1985, PCA filed its original notification pursuant to Section 6(a) of the Act. The Department of Justice published a notice in the Federal Register pursuant to Section 6(b) of the Act on February 5, 1985 (50 FR 5015).

The last notification was filed with the Department on August 14, 2008. A notice was published in the Federal Register pursuant to Section 6(b) of the Act on October 2, 2008 (73 FR 57383).

Patricia A. Brink,
Deputy Director of Operations, Antitrust Division.

[FR Doc. E9-7385 Filed 4-1-09; 8:45 am]

BILLING CODE 4410-11-M